SMALL BUSINESS ADMINISTRATION

[Declaration of Disaster #3591]

State of Missouri

As a result of the President's major disaster declaration on June 11, 2004, I find that Adair, Andrew, Bates, Benton, Buchanan, Caldwell, Carroll, Cass, Cedar, Chariton, Clay, Clinton, Daviess, DeKalb, Gentry, Grundy, Harrison, Henry, Hickory, Jackson, Johnson, Knox, Linn, Livingston, Macon, Mercer, Monroe, Nodaway, Platte, Polk, Randolph, Ray, Shelby, St. Clair, Sullivan, Vernon and Worth Counties in the State of Missouri constitute a disaster area due to damages caused by severe storms, tornadoes and flooding occurring on May 18 through May 31, 2004. Applications for loans for physical damage as a result of this disaster may be filed until the close of business on August 13, 2004, and for economic injury until the close of business on March 11, 2005, at the address listed below or other locally announced locations: U.S. Small Business Administration, Disaster Area 3 Office, 14925 Kingsport Road, Fort Worth, TX 76155-2243.

In addition, applications for economic injury loans from small businesses located in the following contiguous counties may be filed until the specified date at the above location: Audrain, Atchison, Barton, Boone, Camden, Clark, Dade, Dallas, Greene, Howard, Holt, Lafayette, Lewis, Marion, Morgan, Pettis, Putnam, Ralls, Saline, Schuyler, and Scotland in the State of Missouri; Decatur, Page, Ringgold, Taylor, and Wayne counties in the State of Iowa; and Atchison, Bourbon, Crawford, Doniphan, Johnson, Leavenworth, Linn, Miami, and Wyandotte counties in the State of Kansas.

The interest rates are:

| Percent
For Physical Damage:
Homeowners with credit available elsewhere | 5.750
Homeowners without credit available elsewhere | 2.875
Businesses with credit available elsewhere | 5.500
Businesses and non-profit organizations without credit available elsewhere | 2.750
Others (including non-profit organizations) with credit available elsewhere | 4.875
For Economic Injury:
Businesses and small agricultural cooperatives without credit available elsewhere | 2.750

The number assigned to this disaster for physical damage is 359112. For economic injury the number is 9ZI800 for Missouri; 9ZI900 for Iowa; and 9ZJ100 for Kansas.

(Catalog of Federal Domestic Assistance Program Nos. 59002 and 59008.)

Dated: June 14, 2004.
Herbert L. Mitchell,
Associate Administrator for Disaster Assistance.

[FR Doc. 04-13780 Filed 6-17-04; 8:45 am]

BILLING CODE 8025-01-P